DEPARTMENT OF EDUCATION

President's Advisory Commission on Educational Excellence for Hispanics

AGENCY: White House Initiative on Educational Excellence for Hispanics, U.S. Department of Education.

ACTION: Announcement of an open meeting.

SUMMARY: This notice sets forth the schedule and agenda of the twelfth meeting of the President's Advisory Commission on Educational Excellence for Hispanics (Commission). The notice also describes the functions of the Commission. Notice of the meeting is required by section 10(a)(2) of the Federal Advisory Committee Act and intended to notify the public of its opportunity to attend.

DATES: The President's Advisory Commission on Educational Excellence for Hispanics meeting will be held on Tuesday, December 6, 2016 from 9:00 a.m.-2:00 p.m. Eastern Standard Time.

ADDRESSES: National Education Association, Robert E. Chanin Auditorium, 1201 16th Street NW., Washington, DC 20036, 202-453-5529.

FOR FURTHER INFORMATION CONTACT: Emmanuel Caudillo, Senior Advisor, White House Initiative on Educational Excellence for Hispanics, 400 Maryland Ave. SW., Room 4W108, Washington, DC 20202; telephone: 202-401-1411.

SUPPLEMENTARY INFORMATION: The President's Advisory Commission on Educational Excellence for Hispanics Statutory Authority: The President's Advisory Commission on Educational Excellence for Hispanics (the Commission) is established by Executive Order 13555 (Oct. 19, 2010; continued on September 30, 2015 by Executive Order 13708). The Commission is governed by the provisions of the Federal Advisory Committee Act (FACA), (Pub. L. 92-463; as amended, 5 U.S.C.A., Appendix 2) which sets forth standards for the formation and use of advisory committees. The purpose of the Commission is to advise the President and the Secretary of Education on all matters pertaining to the education attainment of the Hispanic community.

The Commission shall advise the President and the Secretary in the following areas: (i) Developing, implementing, and coordinating educational programs and initiatives at the Department and other agencies to improve educational opportunities and outcomes for Hispanics of all ages; (ii) increasing the participation of the Hispanic community and Hispanic-Serving Institutions in the Department's programs and in education programs at other agencies; (iii) engaging the philanthropic, business, nonprofit, and education communities in a national dialogue regarding the mission and objectives of this order; (iv) establishing partnerships with public, private, philanthropic, and nonprofit stakeholders to meet the mission and policy objectives of this order.

Meeting Agenda

The open meeting will facilitate a discussion on the transition of Administration as it pertains to Hispanics and education related issues. The Commission members will provide recommendations for the Initiative's priorities for 2017.

Access to Records of the Meeting: The Department will post the official report of the meeting on the Commission's Web site 90 days after the meeting. Pursuant to the FACA, the public may also inspect the materials at 400 Maryland Avenue SW., Washington, DC, by emailing Emmanuel.Caudillo@ed.gov or by calling (202) 401-1411 to schedule an appointment.

Individuals who wish to attend the Commission meeting must RSVP by 12 noon EST, Friday, December 2nd, 2016, to WHIEEH@ed.gov.

An opportunity for public comment will be available on Tuesday, December 6, 2016, from 1:15 p.m. to 1:45 p.m., EST. Individuals who wish to provide comments will be allowed three minutes to speak. Members of the public can sign up to provide comments at the meeting via email at WHIEEH@ed.gov and also the day-of the meeting. It is first come, first serve. Those members of the public interested in submitting written comments may do so by submitting them to the attention of Emmanuel Caudillo, White House Initiative on Educational Excellence for Hispanics, U.S. Department of Education, 400 Maryland Ave. SW., Room 4W108, Washington, DC 20202, by 5:00 p.m. EST Friday, December 2, 2016 or via email at WHIEEH@ed.gov.

Reasonable Accommodations: Individuals who will need accommodations in order to attend the meeting (e.g., interpreting services, assistive listening devices, or material in alternative format) should notify Emmanuel Caudillo, Senior Advisor, White House Initiative on Educational Excellence for Hispanics at 202-401-1411, no later than Friday, December 2nd, 2016. We will attempt to meet requests for such accommodations after this date, but cannot guarantee their availability. The meeting site is accessible to individuals with disabilities.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Executive Order 13555; continued by Executive Order 13708.

Ted Mitchell,
Under Secretary, U.S. Department of Education.

[FR Doc. 2016-27992 Filed 11-21-16; 8:45 am]

BILLING CODE P